DEPARTMENT OF DEFENSE

Department of the Army, Corps of Engineers

Intent To Prepare a Draft Environmental Impact Statement (DEIS) for Construction of a Containerized Cargo Terminal, on Shoal Point, Adjacent to the Texas City Channel, Texas City, Galveston County, TX

AGENCY: U.S. Army Corps of Engineers, Galveston District, DoD.

ACTION: Notice of intent.

SUMMARY: The U.S. Army Corps of Engineers, Galveston District intends to prepare a DEIS to access the social, economic and environmental effects of the proposed multi-phased construction of a container terminal. The DEIS will access potential impacts on a range of alternatives, including the preferred alternative. The Federal action is consideration of a Department of Army Permit application for work under Section 10 of the Rivers and Harbors Act of 1899 and section 404 of the Clean Water Act.

FOR FURTHER INFORMATION CONTACT: For further information and/or questions about the proposed action and DEIS, please contact Ms. Sharon Manzella Tirpak, Project Manager, by letter at U.S. Army Corps of Engineers, P.O. Box 1229, Galveston, Texas 77553, by telephone at (409) 766-3136, or by e-mail at Sharon.tirpak@usace.army.mil.

SUPPLEMENTARY INFORMATION: The Galveston District intends to prepare a DEIS on the proposed container terminal which would be located on Shoal Point, adjacent to the Texas City Ship Channel, Texas City, Galveston County, Texas. The City of Texas City (Texas City) proposes this project.

1. Description of the Proposed Project: Texas City is proposing the construction and operation of a container port facility located on Shoal Point, adjacent to the Texas City Channel and Galveston Bay. The project site is a dredge material disposal area for the Texas City Channel and the Port of Texas City. The Shoal Point project would be built in three phases, ultimately consisting of 400 acres of container yard, six berths, a new turning basin, a land side access corridor and the deepening of the existing Texas City Channel from 40 to 45 feet. An estimated 8 million cubic yards of new dredged material would be generated during Phase I. Potential total build-out of Phases II and III would include an additional 3.2 million cubic yards of new dredged material. Approximately 1.2 acres of emergent marsh, 10.3 acres of high marsh, 3.6 acres of fresh water wetlands and 92.4 acres of open water habitat would be impacted by the proposed project, during Phase I. Potential total build-out of Phases II and III may impact an additional 74 acres of open water habitat.

2. Scoping and Public Involvement Process: A scoping meeting to gather information on the subjects to be studied in detail in the DEIS will be conducted on October 3, 2000, at 7:00 PM, at the Charles Doyle Convention Center, 2010 5th Avenue North (21st Street and Phoenix Lane), Texas City, Texas. An informal open house, allowing for review of the proposed project and questions and answers, will be conducted between 5:00 and 7:00 PM, prior to the scoping meeting.

3. Significant Issues: Issues associated with the proposed facilities to be given significant analysis in the DEIS are likely to include, but may not be limited to, the potential impacts of the proposed dredging, the beneficial uses of dredged material, placement of fill, impact of air quality during construction and operation of the facility and surface transportation facilities, and of induced developments on: wetland resources; upland and aquatic biotic communities; water quality, fish and wildlife values including threatened and endangered species; air quality; land forms and geologic resources; community cohesion; environmental justice; roadway traffic; socioeconomic environment; archaeological and cultural resources; recreation and recreational resources; public infrastructure and services; energy supply and natural resources; hazardous waste and materials; land use; aesthetics; public health and safety; navigation; flood plain values; shoreline erosion and accretion; and the needs and welfare of the people.

4. Technical Review and Consultation: Several State and Federal Agencies will be invited to provide technical review of the DEIS. Those agencies include: the Environmental Protection Agency, National Marine Fisheries Service, United States Fish and Wildlife Service, the United States Coast Guard, Federal Highways Administration, Texas Natural Resource Conservation Commission, Texas General Land Office and the Texas Department of Transportation.

5. Additional Review and Consultation: Additional review and consultation that will be incorporated into the preparation of this DEIS will include: Compliance with the Texas Coastal Management Program; protection of cultural resources under section 106 of the Historic Preservation Act; protection of navigation under the Rivers and Harbors Act of 1899; protection of water quality under section 401 of the Clean Water Act; and protection of endangered and threatened species under section 7 of the Endangered Species Act.

6. Availability of the DEIS: The Draft Environmental Impact Statement is projected to be available in September 2001. A Public Hearing will be conducted following the release of the DEIS.

Nicholas J. Buechler,
Col., EN, Commanding.

[FR Doc. 00-22219 Filed 8-30-00; 8:45 am]

BILLING CODE 3710-52-P